DEPARTMENT OF ENERGY

Federal Energy Regulatory Commission

[Docket No. ER01-3063-000]

Southern Indiana Gas & Electric Company; Notice of Filing

October 23, 2001.

Take notice that on October 19, 2001, Southern Indiana Gas & Electric Company submitted a revised filing withdrawing its September 14, 2001 Notice of Termination of the Electric Power Agreement, FPC Rate Schedule No. 29, under which it was providing power to Alcoa Power Generating Inc. This Electric Power Agreement stemmed from its May 28, 1971 contract with Alcoa. The revised filing provides a substitute notice of termination, which has the effect of canceling the May 28, 1971 contract with Alcoa Power Generating Inc. on February 28, 2002.

Southern Indiana explains that the parties will use the additional time to attempt to reach long-term service agreements and to install metering facilities to accommodate services to Alcoa beginning on March 1, 2002.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before November 2, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27082 Filed 10-26-01; 8:45 am]

BILLING CODE 6717-01-P